DEPARTMENT OF COMMERCE

International Trade Administration

A-570-879

Extension of Time Limit for the Preliminary Results of the Antidumping Duty Administrative Review: Polyvinyl Alcohol from the People's Republic of China

AGENCY: Import Administration, International Trade Administration, Department of Commerce.

EFFECTIVE DATE: June 23, 2005.

FOR FURTHER INFORMATION CONTACT: Lilit Astvatsatrian, AD/CVD Operations, Office 8, Import Administration, International Trade Administration, U.S. Department of Commerce, 14th Street and Constitution Avenue, NW, Washington, DC 20230; telephone: (202) 482-6412.

SUPPLEMENTARY INFORMATION:

Background

The Department of Commerce (“the Department”) published an antidumping duty order on polyvinyl alcohol (“PVA”) from the People's Republic of China (“PRC”) on October 1, 2003 (see Antidumping Duty Order: Polyvinyl Alcohol from the People's Republic of China, 68 FR 56620). On October 29, 2004, Petitioners¹ requested that the Department conduct an antidumping review of Sinopec Sichuan Vinylon Works.

¹ Celanese, Ltd. and E.I. du Pont de Nemours & Co.

On November 19, 2004, the Department published in the Federal Register a notice of the initiation of the antidumping duty administrative review of PVA from the PRC for the period March 20, 2003, through September 30, 2004. See Initiation of Antidumping and Countervailing Duty Administrative Reviews, 69 FR 67701 (November 19, 2004).² The preliminary results of review are currently due no later than July 3, 2005.

² We note that the beginning date (i.e., March 20, 2003) of the announced period of review (“POR”) was not correct. The Department inadvertently published an incorrect beginning date which was the date of the preliminary determination of the investigation. Because the only respondent in this proceeding had a de minimis rate in the preliminary determination, the correct POR beginning date should have been the date of the final determination in the investigation. Thus, the Department corrected the beginning date of the POR to reflect the correct POR which is August 11, 2003, through September 30, 2004. See Memorandum to the File from Lilit Astvatsatrian, Case Analyst, through Robert Bolling, Program Manager, dated May 9, 2005.

Extension of Time Limit of Preliminary Results

Pursuant to section 751(a)(3)(A) of the Tariff Act of 1930, as amended (“the Act”), the Department shall issue preliminary results in an antidumping administrative review of an antidumping duty order within 245 days after the last day of the anniversary month of the date of publication of the order.

The Act further provides, however, that the Department may extend the deadline for completion of the preliminary results if review from 245 days to 365 days if it determines that it is not practicable to complete the preliminary results within the 245-day period. Completion of the preliminary results of this review within the 245-day period is not practicable because the Department needs additional time to analyze a significant amount of information pertaining to the respondent company's sales practices, factors of production involved in the four stages of the

PVA production process, and corporate relationships, to send supplemental questionnaires and to review responses to these questionnaires.

Because it is not practicable to complete this review within the time specified under the Act, we are extending the time period for issuing the preliminary results of review by 30 days

until August 2, 2005, in accordance with section 751(a)(3)(A) of the Act. The final results continue to be due 120 days after the publication of the preliminary results.

Dated: June 17, 2005.
Barbara E. Tillman,
Acting Deputy Assistant Secretary for Import Administration.

[FR Doc. E5-3272 Filed 6-21-05; 8:45 am]

BILLING CODE: 3510-DS-S